DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-006. Applicant: University of Pittsburgh, S224 Biomedical Science Tower, 3550 Terrace Street, Pittsburgh, PA 15261. Instrument: Electron Microscope, Model JEM-1011. Manufacturer: JEOL, Ltd., Japan. Intended Use: The instrument is intended to be used to perform diverse structural studies of cells including tissues from the liver, intestine, lung, muscle as well as the immune system to support translational research which will lead to novel therapies for disease in NIH funded research. It will also be used for individual training of graduate students, fellows and clinical residents in independent NIH sponsored research programs. Application accepted by Commissioner of Customs: February 9, 2005.

Docket Number: 05-007. Applicant: Clemson University, 903 Jordan Hall, Clemson University, Clemson, SC 29634. Instrument: Electron Microscope, Model H-7600. Manufacturer: Hitachi High-Technologies Corp., Japan. Intended Use: The instrument is intended to be used to study:

(1) Cell structure of biological samples including grain structure and boundary interactions.

(2) The effects of temperature variation and heat treating of materials in the formation of carbon nanotubes and protein migration in oysters.

(3) Development of new materials and processes.

(4) Ultra thin section evaluation via TEM microscopy.

Application accepted by Commissioner of Customs: February 10, 2005.

Docket Number: 05-008. Applicant: Rice University, 6100 Main Street, Houston, TX 77005. Instrument: Electron Microscope, Model JEM-1230. Manufacturer: JEOL Ltd., Japan. Intended Use: The instrument is intended to be used to investigate the microstructures and properties of nanomaterials as well as biological materials and other types of materials at high levels of resolution and contrast. Cryo-techniques will be used for sample preparations with biological materials. The microscope will also be used for the training of undergraduate and graduate students. Application accepted by Commissioner of Customs: February 11, 2005.

Docket Number: 05-009. Applicant: Rice University, 6100 Main Street, Houston, TX 77005. Instrument: Electron Microscope, Model JEM 2100-F. Manufacturer: JEOL, Ltd., japan. Intended Use: The instrument is intended to be used to investigate the microstructures and properties of nanomaterials as well as biological materials and other types of materials at high levels of resolution and contrast. Cryo-techniques will be used for sample preparations with biological materials, for which the microscope will be primarily used. The microscope will also be used for the training of undergraduate and graduate students. Application accepted by Commissioner of Customs: February 15, 2005.

Docket Number: 05-010. Applicant: Tuskegee University, 209 Kresge Building, Tuskegee University, Tuskegee, AL 36088. Instrument: Electron Microscope, Model JEM-2010. Manufacturer: Jeol, Ltd., Japan. Intended Use: The instrument is intended to be used to study shape, size, agglomeration, crystalline nature, and particle distribution in polymer matrices using metal, metal oxide and metal carbide nanoparticles embedded in the matrices. The microscope will also be used in the education and training of graduate students in materials science with an emphasis on nanostructures. Application accepted by Commissioner of Customs: February 15, 2005.

Gerald A. Zerdy,
Program Manager, Statutory Import Programs Staff.

[FR Doc. E5-861 Filed 3-2-05; 8:45 am]

BILLING CODE 3510-DS-P